DEPARTMENT OF COMMERCE

International Trade Administration

[A-570-912; C-570-913; A-570-910; C-570-911; A-570-916: C-570-917; A-570-914; C-570-915]

Implementation of Determinations Under Section 129 of the Uruguay Round Agreements Act: Certain New Pneumatic Off-the-Road Tires; Circular Welded Carbon Quality Steel Pipe; Laminated Woven Sacks; and Light-Walled Rectangular Pipe and Tube From the People's Republic of China

AGENCY: Import Administration, International Trade Administration, Department of Commerce.

SUMMARY: On August 21, 2012, the U.S. Trade Representative (“USTR”) instructed the Department of Commerce (“Department”) to implement its determinations under section 129 of the Uruguay Round Agreements Act (“URAA”) regarding the antidumping and countervailing duty investigations on certain new pneumatic off-the-road tires (“OTR Tires”) from the People's Republic of China (“PRC”), circular welded carbon quality steel pipe (“CWP”) from the PRC, laminated woven sacks (“Sacks”) from the PRC, and light-walled rectangular pipe and tube (“LWRPT”) from the PRC, which renders them not inconsistent with the World Trade Organization (“WTO”) dispute settlement findings in United States—Definitive Anti-Dumping and Countervailing Duties on Certain Products from China, WT/DS379/AB/R (March 11, 2011) (“DS 379”). The Department issued its final determinations in these section 129 proceedings on July 31, 2012.¹ The Department is now implementing these final determinations.

¹ See Memoranda from Christian Marsh, Deputy Assistant Secretary for Antidumping and Countervailing Duty Operations to Paul Piquado, Assistant Secretary for Import Administration, dated July 31, 2012, regarding: (1) Final Determinations: Section 129 Proceedings Pursuant to the WTO Appellate Body's Findings in WTO DS 379 Regarding the Antidumping and Countervailing Duty Investigations of Certain New Pneumatic Off-the-Road Tires from the People's Republic of China (“OTR Tires Section 129 Final Determinations”); (2) Final Determinations: Section 129 Proceedings Pursuant to the WTO Appellate Body's Findings in WTO DS 379 Regarding the Antidumping and Countervailing Duty Investigations of Circular Welded Carbon Quality Steel Pipe from the People's Republic of China (“CWP Section 129 Final Determinations”); (3) Final Determinations: Section 129 Proceedings Pursuant to the WTO Appellate Body's Findings in WTO DS 379 Regarding the Antidumping and Countervailing Duty Investigations of Laminated Woven Sacks from the People's Republic of China (“Sacks Section 129 Final Determinations”); and (4) Final Determinations: Section 129 Proceedings Pursuant to the WTO Appellate Body's Findings in WTO DS 379 Regarding the Antidumping and Countervailing Duty Investigations of Light-Walled Rectangular Pipe and Tube from the People's Republic of China (“LWRPT Section 129 Final Determinations”).

DATES: Effective Date: August 21, 2012.

FOR FURTHER INFORMATION CONTACT: Daniel Calhoun, Christopher Mutz, or Mark Hoadley, U.S. Department of Commerce, 14th Street and Constitution Avenue NW., Washington, DC 20230; telephone: (202) 482-1439, (202) 482-0235, or (202) 482-3148, respectively.

SUPPLEMENTARY INFORMATION:

Background

On August 22, 2011, the Department informed interested parties that it was initiating proceedings under section 129 of the URAA to implement the findings of the WTO dispute settlement panel in DS 379 with regard to the countervailing duty (“CVD”) investigations on OTR Tires and Sacks from the PRC. On September 27, 2011, the Department informed interested parties that it was initiating proceedings under section 129 of the URAA to implement the findings of the WTO dispute settlement panel in DS 379 with regard to the CVD investigations on CWP and LWRPT from the PRC. On May 14, 2012, the Department informed interested parties that it was initiating proceedings under section 129 of the URAA to implement the findings of the WTO dispute settlement panel in DS 379 with regard to the antidumping duty (“AD”) investigations on CWP, LWRPT, OTR Tires, and Sacks from the PRC.

Given the number and complexity of the issues involved, the Department addressed the Dispute Settlement Body's findings through separate preliminary determination memoranda with respect to each of the issues addressed in WTO DS 379. Specifically, the Department issued the preliminary determinations regarding:

A. Loan benchmarks on April 6, 2012;²

² See Memorandum for Paul Piquado, Assistant Secretary for Import Administration, “Preliminary Section 129 Determination of the Countervailing Duty Investigation of Certain New Pneumatic Off-the-Road Tires from the People's Republic of China (PRC); Definitive Anti-Dumping and Countervailing Duties on Certain Products from the PRC (WTO DS 379),” dated April 6, 2012.

B. Trading companies on April 6, 2012;³

³ Id.

C. Land specificity on April 9, 2012;⁴

⁴ See Memorandum for Paul Piquado, Assistant Secretary for Import Administration, “Preliminary Section 129 Determination of the Countervailing Duty Investigation of Laminated Woven Sacks from the People's Republic of China (PRC); Definitive Anti-Dumping and Countervailing Duties on Certain Products from the PRC (WTO DS 379),” dated April 9, 2012.

D. Facts available on May 18, 2012;⁵

⁵ See (1) Memorandum for Paul Piquado, Assistant Secretary for Import Administration, “Preliminary Section 129 Determination Regarding Public Bodies and Facts Available in the Countervailing Duty Investigation of Circular Welded Carbon Quality Steel Pipe from the People's Republic of China; Definitive Anti-Dumping and Countervailing Duties on Certain Products from China (WTO DS 379),” dated May 18, 2012 (“CWP Public Bodies and Facts Available Preliminary Determination Memorandum”); and (2) Memorandum for Paul Piquado, Assistant Secretary for Import Administration, “Preliminary Section 129 Determination Regarding Public Bodies and Facts Available in the Countervailing Duty Investigation of Light-Walled Rectangular Pipe and Tube from the People's Republic of China; Definitive Anti-Dumping and Countervailing Duties on Certain Products from China (WTO DS 379),” dated May 18, 2012 (“LWRPT Public Bodies and Facts Available Preliminary Determination Memorandum”).

E. Public bodies on May 18, 2012;⁶ and

⁶ See (1) CWP Public Bodies and Facts Available Preliminary Determination Memorandum; (2) LWRPT Public Bodies and Facts Available Preliminary Determination Memorandum; (3) Memorandum for Paul Piquado, Assistant Secretary for Import Administration, “Preliminary Section 129 Determination Regarding Public Bodies in the Countervailing Duty Investigation of Certain New Pneumatic Off-the-Road Tires from the People's Republic of China; Definitive Anti-Dumping and Countervailing Duties on Certain Products from China (WTO DS 379),” dated May 18, 2012; and (4) Memorandum for Paul Piquado, Assistant Secretary for Import Administration, “Preliminary Section 129 Determination Regarding Public Bodies in the Countervailing Duty Investigation of Laminated Woven Sacks from the People's Republic of China; Definitive Anti-Dumping and Countervailing Duties on Certain Products from China (WTO DS 379),” dated May 18, 2012.

F. Double remedies on May 31, 2012.⁷

⁷ See the following Memoranda for Paul Piquado, Assistant Secretary for Import Administration:

(1) “Section 129 Determination of the Countervailing Duty Investigation of Certain New Pneumatic Off-the-Road Tires from the People's Republic of China: `Double Remedies' Analysis Pursuant to the WTO Appellate Body Findings in WTO DS 379,” dated May 31, 2012;

(2) “Section 129 Proceeding Pursuant to the WTO Appellate Body's Findings in WTO DS 379 Regarding the Antidumping Duty Investigation of Certain New Pneumatic Off-the-Road Tires (OTR Tires) from the People's Republic of China: Preliminary Determination of Adjustments to the Antidumping Duty Cash Deposit Rates,” dated May 31, 2012;

(3) “Section 129 Determination of the Countervailing Duty Investigation of Circular Welded Carbon Quality Steel Pipe from the People's Republic of China: `Double Remedies' Analysis Pursuant to the WTO Appellate Body Findings in WTO DS 379,” dated May 31, 2012;

(4) “Section 129 Proceeding Pursuant to the WTO Appellate Body's Findings in WTO DS 379 Regarding the Antidumping Duty Investigation of Circular Welded Carbon Quality Steel Pipe from the People's Republic of China: Preliminary Determination of Adjustments to the Antidumping Duty Cash Deposit Rates,” dated May 31, 2012;

(5) “Section 129 Determination of the Countervailing Duty Investigation of Certain New Pneumatic Laminated Woven Sacks from the People's Republic of China: `Double Remedies' Analysis Pursuant to the WTO Appellate Body Findings in WTO DS 379,” dated May 31, 2012;

(6) “Section 129 Proceeding Pursuant to the WTO Appellate Body's Findings in WTO DS 379 Regarding the Antidumping Duty Investigation of Laminated Woven Sacks from the People's Republic of China: Preliminary Determination of Adjustments to the Antidumping Duty Cash Deposit Rates,” dated May 31, 2012;

(7) “Section 129 Determination of the Countervailing Duty Investigation of Light Walled Rectangular Pipe and Tube from the People's Republic of China: `Double Remedies' Analysis Pursuant to the WTO Appellate Body Findings in WTO DS 379,” dated May 31, 2012; and

(8) “Section 129 Proceeding Pursuant to the WTO Appellate Body's Findings in WTO DS 379 Regarding the Antidumping Duty Investigation of Light Walled Rectangular Pipe and Tube from the People's Republic of China from the People's Republic of China: Preliminary Determination of Adjustments to the Antidumping Duty Cash Deposit Rates,” dated May 31, 2012.

The Department invited interested parties to comment on each of the section 129 preliminary determinations. After receiving comments and rebuttal comments from the interested parties, the Department issued its final results for the section 129 determinations on July 31, 2012.⁸

⁸ See OTR Tires Section 129 Final Determinations; CWP Section 129 Final Determinations; Sacks Section 129 Final Determinations; and LWRPT Section 129 Final Determinations.

In its August 21, 2012, letter, the USTR notified the Department that, consistent with section 129(b)(3) of the URAA, consultations with the Department and the appropriate congressional committees with respect to the July 31, 2012, determinations have been completed. Also on August 21, 2012, in accordance with section 129(b)(4) of the URAA, the USTR directed the Department to implement these determinations.

Nature of the Proceedings

Section 129 of the URAA governs the nature and effect of determinations issued by the Department to implement findings by WTO dispute settlement panels and the Appellate Body. Specifically, section 129(b)(2) of the URAA provides that “notwithstanding any provision of the Tariff Act of 1930,” upon a written request from the USTR, the Department shall issue a determination that would render its actions not inconsistent with an adverse finding of a WTO panel or the Appellate Body.⁹ The Statement of Administrative Action, U.R.A.A., H. Doc. 316, Vol. 1, 103d Cong. (1994) (“SAA”), variously refers to such a determination by the Department as a “new,” “second,” and “different” determination.¹⁰ After consulting with the Department and the appropriate congressional committees, the USTR may direct the Department to implement, in whole or in part, the new determination made under section 129 of the URAA.¹¹ Pursuant to section 129(c) of the URAA, the new determination shall apply with respect to unliquidated entries of the subject merchandise that are entered or withdrawn from warehouse, for consumption, on or after the date on which the USTR directs the Department to implement the new determination.¹² The new determination is subject to judicial review, separate and apart from judicial review of the Department's original determination.¹³

⁹ See 19 U.S.C. 3538(b)(2).

¹⁰ See SAA at 1025, 1027.

¹¹ See 19 U.S.C. 3538(b)(4).

¹² See 19 U.S.C. 3538(c).

¹³ See 19 U.S.C. 1516a(a)(2)(B)(vii).

Final Determinations: Analysis of Comments Received

The issues raised in the comments and rebuttal comments submitted by interested parties to these proceedings are addressed in the respective final determinations. The issues included in the respective final determinations are as follows: (1) Loan benchmarks (OTR Tires); (2) trading companies (OTR Tires); (3) land specificity (Sacks); (4) adverse facts available (CWP and LWRPT); (5) public bodies (CWP, LWRPT, OTR Tires, and Sacks); and (6) double remedies (CWP, LWRPT, OTR Tires, and Sacks). The final determinations are public documents and are on file electronically via Import Administration's Antidumping and Countervailing Duty Centralized Electronic Service System (“IA ACCESS”). Access to IA ACCESS is available to registered users at http://iaaccess.trade.gov and in the Central Records Unit, room 7046 of the main Department of Commerce building. In addition, complete versions of the final determinations can be accessed directly on the Internet at http://www.trade.gov/ia/. The signed versions of the final determinations and the electronic versions of the final determinations are identical in content.

Final Determinations: Recalculated Countervailing Duty Rates

The recalculated CVD rates, as included in the final determinations and which remain unchanged from the preliminary determinations for each company, are as follows:

¹⁴ See Certain New Pneumatic Off-the-Road Tires From the People's Republic of China: Final Affirmative Countervailing Duty Determination and Final Negative Determination of Critical Circumstances, 73 FR 40480, 40483 (July 15, 2008).

¹⁵ See OTR Tires Section 129 Final Determinations at 38.

¹⁶ See Circular Welded Carbon Quality Steel Pipe from the People's Republic of China: Notice of Amended Final Affirmative Countervailing Duty Determination and Notice of Countervailing Duty Order, 73 FR 42545, 42547 (July 22, 2008).

¹⁷ See CWP Section 129 Final Determinations at 34.

¹⁸ See Laminated Woven Sacks From the People's Republic of China: Final Affirmative Countervailing Duty Determination and Final Affirmative Determination, in Part, of Critical Circumstances, 73 FR 35639, 35641 (June 24, 2008).

¹⁹ See Sacks Section 129 Final Determinations at 38.

²⁰ See Light-Walled Rectangular Pipe and Tube From People's Republic of China: Final Affirmative Countervailing Duty Investigation Determination, 73 FR 35642, 35645 (June 24, 2008).

²¹ See LWRPT Section 129 Final Determinations at 34.

Amended Countervailable Subsidy Rates (Percent)—Certain New Pneumatic Off-the-Road Tires From the PRC
Exporter/Manufacturer | CVD Rate (investigation) ¹⁴ | Revised CVD rate ¹⁵
Guizhou Tyre Co., Ltd | 2.45 | 2.52
Hebei Starbright Co., Ltd./GPX International Tire Corporation, Ltd | 14.00 | 14.00
Tianjin United Tire & Rubber International Co., Ltd. (TUTRIC) | 6.85 | 6.85
All Others | 5.62 | 5.65

Amended Countervailable Subsidy Rates (Percent)—Circular Welded Carbon Quality Steel Pipe From the PRC
Exporter/Manufacturer | CVD Rate (investigation) ¹⁶ | Revised CVD rate ¹⁷
Weifang East Steel Pipe Co., Ltd | 29.62 | 29.83
Zhejiang Kingland Pipeline and Technologies Co., Ltd., and affiliated companies | 44.93 | 48.18
Tianjin Shuangjie Steel Pipe Co., Ltd.; Tianjin Shuangjie Steel Pipe Group Co., Ltd.; Tianjin Wa Song Imp. & Exp. Co., Ltd.; and Tianjin Shuanglian Galvanizing Products Co., Ltd | 616.83 | 620.08
All Others | 37.28 | 39.01

Amended Countervailable Subsidy Rates (Percent)—Laminated Woven Sacks From the PRC
Exporter/Manufacturer | CVD Rate (investigation) ¹⁸ | Revised CVD rate ¹⁹
Zibo Aifudi Plastic Packaging Co., Ltd | 29.54 | 83.34
Han Shing Chemical Co., Ltd | 223.74 | 277.54
Ningbo Yong Feng Packaging Co., Ltd | 223.74 | 277.54
Shandong Shouguang Jianyuan Chun Co., Ltd./Shandong Longxing Plastic Products Company Ltd | 352.82 | 406.62
Shandong Qilu Plastic Fabric Group, Ltd | 304.40 | 358.20
All Others | 226.85 | 280.65

Amended Countervailable Subsidy Rates (Percent)— Light-Walled Rectangular Pipe and Tube From the PRC
Exporter/Manufacturer | CVD Rate (investigation) ²⁰ | Revised CVD rate ²¹
Kunshan Lets Win Steel Machinery Co., Ltd | 2.17 | 2.20
Zhangjiagang Zhongyuan Pipe-making Co., Ltd., Jiangsu Qiyuan Group Co., Ltd | 15.28 | 15.28
Qingdao Xiangxing Steel Pipe Co., Ltd | 200.58 | 200.58
All-Others | 15.28 | 15.28

Final Determinations: Recalculated Antidumping Duty Cash Deposit Rates

The recalculated AD cash deposit rates, as included in the final determinations and which remain unchanged from the preliminary determinations for each company, are as follows:

Amended Antidumping Duty Cash Deposit Rates (Percent)—Certain New Pneumatic Off-the-Road Tires From the PRC
Exporter | Producer | Weighted-average dumping margin (investigation) ²² | Revised AD cash deposit rate ²³
Guizhou Tyre Co., Ltd | Guizhou Advance Rubber | 5.25 | 5.10
Guizhou Tyre Co., Ltd | Guizhou Tyre Co., Ltd | 5.25 | 5.10
Hebei Starbright Co., Ltd./GPX International Tire Corporation, Ltd | Hebei Starbright Co., Ltd | 29.93 | 29.93
Tianjin United Tire & Rubber International Co., Ltd. (TUTRIC) | Tianjin United Tire & Rubber International Co., Ltd. (TUTRIC) | 8.44 | 8.39
Xuzhou Xugong Tyres Co., Ltd | Xuzhou Xugong Tyres Co., Ltd | 10.01 | 9.92
Aeolus Tyre Co., Ltd | Aeolus Tyre Co., Ltd | 12.91 | 12.83
Double Coin Holdings Ltd | Double Coin Holdings Ltd | 12.91 | 12.83
Double Coin Holdings Ltd | Double Coin Group Rugao Tyre Co., Ltd | 12.91 | 12.83
Double Coin Holdings Ltd | Double Coin Group Shanghai Donghai Tyre Co., Ltd | 12.91 | 12.83
Double Happiness Tyre Industries Corp., Ltd | Double Happiness Tyre Industries Corp., Ltd | 12.91 | 12.83
Jiangsu Feichi Co., Ltd | Jiangsu Feichi Co., Ltd | 12.91 | 12.83
Kenda Rubber (China) Co., Ltd./Kenda Global Holding Co., Ltd (Cayman Islands) | Kenda Rubber (China) Co., Ltd | 12.91 | 12.83
KS Holding Limited | Oriental Tyre Technology Ltd | 12.91 | 12.83
KS Holding Limited | Shandong Taishan Tyre Co., Ltd | 12.91 | 12.83
KS Holding Limited | Xu Zhou Xugong Tyres Co., Ltd | 12.91 | 12.83
Laizhou Xiongying Rubber Industry Co., Ltd | Laizhou Xiongying Rubber Industry Co., Ltd | 12.91 | 12.83
Oriental Tyre Technology Limited | Midland Off the Road Tire Co., Ltd | 12.91 | 12.83
Oriental Tyre Technology Limited | Midland Specialty Tire Co., Ltd | 12.91 | 12.83
Oriental Tyre Technology Limited | Xuzhou Hanbang Tyres Co., Ltd | 12.91 | 12.83
Qingdao Aonuo Tyre Co., Ltd | Qingdao Aonuo Tyre Co., Ltd | 12.91 | 12.83
Qingdao Etyre International Trade Co., Ltd | Shandong Xingda Tyre Co. Ltd | 12.91 | 12.83
Qingdao Etyre International Trade Co., Ltd | Shandong Xingyuan International Trade Co. Ltd | 12.91 | 12.83
Qingdao Etyre International Trade Co., Ltd | Shandong Xingyuan Rubber Co. Ltd | 12.91 | 12.83
Qingdao Free Trade Zone Full-World International Trading Co., Ltd | Qingdao Eastern Industrial Group Co., Ltd | 12.91 | 12.83
Qingdao Free Trade Zone Full-World International Trading Co., Ltd | Qingdao Qihang Tyre Co., Ltd | 12.91 | 12.83
Qingdao Free Trade Zone Full-World International Trading Co., Ltd | Qingdao Shuanghe Tyre Co., Ltd | 12.91 | 12.83
Qingdao Free Trade Zone Full-World International Trading Co., Ltd | Qingdao Yellowsea Tyre Factory | 12.91 | 12.83
Qingdao Free Trade Zone Full-World International Trading Co., Ltd | Shandong Zhentai Tyre Co., Ltd | 12.91 | 12.83
Qingdao Hengda Tyres Co., Ltd | Qingdao Hengda Tyres Co., Ltd | 12.91 | 12.83
Qingdao Milestone Tyre Co., Ltd | Qingdao Shuanghe Tyre Co., Ltd | 12.91 | 12.83
Qingdao Milestone Tyre Co., Ltd | Shandong Zhentai Tyre Co., Ltd | 12.91 | 12.83
Qingdao Milestone Tyre Co., Ltd | Shifeng Double-Star Tire Co., Ltd | 12.91 | 12.83
Qingdao Milestone Tyre Co., Ltd | Weifang Longtai Tyre Co., Ltd | 12.91 | 12.83
Qingdao Qihang Tyre Co., Ltd | Qingdao Qihang Tyre Co., Ltd | 12.91 | 12.83
Qingdao Qizhou Rubber Co., Ltd | Qingdao Qizhou Rubber Co., Ltd | 12.91 | 12.83
Qingdao Sinorient International Ltd | Qingdao Hengda Tyres Co., Ltd | 12.91 | 12.83
Qingdao Sinorient International Ltd | Shifeng Double-Star Tire Co., Ltd | 12.91 | 12.83
Qingdao Sinorient International Ltd | Tengzhou Broncho Tyre Co., Ltd | 12.91 | 12.83
Shandong Huitong Tyre Co., Ltd | Shandong Huitong Tyre Co., Ltd | 12.91 | 12.83
Shandong Jinyu Tyre Co., Ltd | Shandong Jinyu Tyre Co., Ltd | 12.91 | 12.83
Shandong Taishan Tyre Co., Ltd | Shandong Taishan Tyre Co., Ltd | 12.91 | 12.83
Shandong Wanda Boto Tyre Co., Ltd | Shandong Wanda Boto Tyre Co., Ltd | 12.91 | 12.83
Shandong Xingyuan International Trading Co., Ltd | Shangdong Xingda Tyre Co., Ltd | 12.91 | 12.83
Shandong Xingyuan International Trading Co., Ltd | Xingyuan Tyre Group Co., Ltd | 12.91 | 12.83
Techking Tires Limited | Shandong Xingda Tyre Co. Ltd | 12.91 | 12.83
Techking Tires Limited | Shandong Xingyuan International Trade Co. Ltd | 12.91 | 12.83
Techking Tires Limited | Shandong Xingyuan Rubber Co. Ltd | 12.91 | 12.83
Triangle Tyre Co., Ltd | Triangle Tyre Co., Ltd | 12.91 | 12.83
Wendeng Sanfeng Tyre Co., Ltd | Wendeng Sanfeng Tyre Co., Ltd | 12.91 | 12.83
Zhaoyuan Leo Rubber Co., Ltd | Zhaoyuan Leo Rubber Co., Ltd | 12.91 | 12.83
PRC-Wide Entity |  | 210.48 | 210.48

²² See Certain New Pneumatic Off-the-Road Tires From the People's Republic of China: Notice of Amended Final Affirmative Determination of Sales at Less Than Fair Value and Antidumping Duty Order, 73 FR 51624, 51626-27 (September 4, 2008); and Certain New Pneumatic Off-The-Road Tires from the People's Republic of China: Notice of Amended Final Determination of Sales at Less Than Fair Value and Amended Antidumping Duty Order in Accordance With Final Court Decision, 75 FR 49459, 49459 (August 13, 2010).

²³ See OTR Tires Section 129 Final Determinations at 39-41.

Amended Antidumping Duty Cash Deposit Rates (Percent)—Circular Welded Carbon Quality Steel Pipe From the PRC
Exporter | Producer | Weighted-average dumping margin (Investigation) ²⁴ | Revised AD cash deposit rate ²⁵
Beijing Sai Lin Ke Hardware Co., Ltd | Xuzhou Guang Huan Steel Tube Products Co., Ltd | 69.2 | 45.35
Wuxi Fastube Industry Co., Ltd | Wuxi Fastube Industry Co., Ltd | 69.2 | 45.35
Jiangsu Guoqiang Zinc-Plating Industrial Co., Ltd | Jiangsu Guoqiang Zinc-Plating Industrial Co., Ltd | 69.2 | 45.35
Wuxi Eric Steel Pipe Co., Ltd | Wuxi Eric Steel Pipe Co., Ltd | 69.2 | 45.35
Qingdao Xiangxing Steel Pipe Co., Ltd | Qingdao Xiangxing Steel Pipe Co., Ltd | 69.2 | 45.35
Wah Cit Enterprises | Guangdong Walsall Steel Pipe Industrial Co., Ltd | 69.2 | 45.35
Guangdong Walsall Steel Pipe Industrial Co., Ltd | Guangdong Walsall Steel Pipe Industrial Co., Ltd | 69.2 | 45.35
Hengshui Jinghua Steel Pipe Co., Ltd | Hengshui Jinghua Steel Pipe Co., Ltd | 69.2 | 45.35
Zhangjiagang Zhongyuan Pipe-Making Co., Ltd | Zhangjiagang Zhongyuan Pipe-Making Co., Ltd | 69.2 | 45.35
Weifang East Steel Pipe Co., Ltd | Weifang East Steel Pipe Co., Ltd | 69.2 | 45.35
Shijiazhuang Zhongqing Imp & Exp Co., Ltd | Bazhou Zhuofa Steel Pipe Co., Ltd | 69.2 | 45.35
Tianjin Baolai Int'l Trade Co., Ltd | Tianjin Jinghai County Baolai Business and Industry Co., Ltd | 69.2 | 45.35
Wai Ming (Tianjin) Int'l Trading Co., Ltd | Bazhou Dong Sheng Hot-dipped Galvanized Steel Pipes Co., Ltd | 69.2 | 45.35
Kunshan Lets Win Steel Machinery Co., Ltd | Kunshan Lets Win Steel Machinery Co., Ltd | 69.2 | 45.35
Shenyang Boyu M/E Co., Ltd | Bazhou Dong Sheng Hot-dipped Galvanized Steel Pipes Co., Ltd | 69.2 | 45.35
Dalian Brollo Steel Tubes Ltd | Dalian Brollo Steel Tubes Ltd | 69.2 | 45.35
Benxi Northern Pipes Co., Ltd | Benxi Northern Pipes Co., Ltd | 69.2 | 45.35
Shanghai Metals & Minerals Import & Export Corp | Benxi Northern Pipes Co., Ltd | 69.2 | 45.35
Huludao Steel Pipe Industrial Co | Huludao Steel Pipe Industrial Co | 69.2 | 45.35
Tianjin Xingyuda Import & Export Co., Ltd | Tianjin Lifengyuanda Steel Group | 69.2 | 45.35
Tianjin Xingyuda Import & Export Co., Ltd | Tianjin Xingyuda Steel Pipe Co | 69.2 | 45.35
Tianjin Xingyuda Import & Export Co., Ltd | Tianjin Lituo Steel Products Co | 69.2 | 45.35
Tianjin Xingyuda Import & Export Co., Ltd | Tangshan Fengnan District Xinlida Steel Pipe Co., Ltd | 69.2 | 45.35
Jiangyin Jianye Metal Products Co., Ltd | Jiangyin Jianye Metal Products Co., Ltd | 69.2 | 45.35
Rizhao Xingye Import & Export Co., Ltd | Shandong Xinyuan Group Co., Ltd | 69.2 | 45.35
Tianjin No. 1 Steel Rolled Co., Ltd | Tianjin Hexing Steel Co., Ltd | 69.2 | 45.35
Tianjin No. 1 Steel Rolled Co., Ltd | Tianjin Ruitong Steel Co., Ltd | 69.2 | 45.35
Tianjin No. 1 Steel Rolled Co., Ltd | Tianjin Yayi Industrial Co | 69.2 | 45.35
Kunshan Hongyuan Machinery Manufacture Co., Ltd | Kunshan Hongyuan Machinery Manufacture Co., Ltd | 69.2 | 45.35
Qingdao Yongjie Import & Export Co., Ltd | Shandong Xinyuan Group Co., Ltd | 69.2 | 45.35
PRC-Wide Entity ²⁶ |  | 85.55 | 68.24

²⁴ See Notice of Final Determination of Sales at Less Than Fair Value and Affirmative Final Determination of Critical Circumstances: Circular Welded Carbon Quality Steel Pipe from the People's Republic of China, 73 FR 31970, 31973 (June 5, 2008).

²⁵ See CWP Section 129 Final Determinations at 35-36.

²⁶ The PRC-Wide Entity includes: Zhejiang Kingland Pipeline/Technologies Co., Ltd., and Tianjin Shuangjie Steel Pipe Co., Ltd./Shuangjie Steel Pipe Group Co., Ltd./Tianjin Wa Song Imp. & Exp. Co., Ltd./Tianjin Shuanglian Galvanizing Products Co., Ltd.; and Jiangsu Yulong Steel Pipe Co., Ltd.

Amended Antidumping Duty Cash Deposit Rates (Percent)—Laminated Woven Sacks From the PRC
Exporter | Producer | Weighted-average dumping margin (investigation) ²⁷ | Revised AD cash deposit rate ²⁸
Zibo Aifudi Plastic Packaging Co., Ltd | Zibo Aifudi Plastic Packaging Co., Ltd | 64.28 | 20.19
Polywell Industrial Co., A.K.A. First Way (H.K.) Limited | Polywell Plastic Product Factory | 64.28 | 20.19
Zibo Linzi Worun Packing Product Co., Ltd | Zibo Linzi Worun Packing Product Co., Ltd | 64.28 | 20.19
Shandong Qikai Plastics Product Co., Ltd | Shandong Qikai Plastics Product Co., Ltd | 64.28 | 20.19
Changle Baodu Plastic Co. Ltd | Changle Baodu Plastic Co. Ltd | 64.28 | 20.19
Zibo Linzi Shuaiqiang Plastics Co. Ltd | Zibo Linzi Shuaiqiang Plastics Co. Ltd | 64.28 | 20.19
Zibo Linzi Qitianli Plastic Fabric Co. Ltd | Zibo Linzi Qitianli Plastic Fabric Co. Ltd | 64.28 | 20.19
Shandong Youlian Co. Ltd | Shandong Youlian Co. Ltd | 64.28 | 20.19
Zibo Linzi Luitong Plastic Fabric Co. Ltd | Zibo Linzi Luitong Plastic Fabric Co. Ltd | 64.28 | 20.19
Wenzhou Hotson Plastics Co. Ltd | Wenzhou Hotson Plastics Co. Ltd | 64.28 | 20.19
Jiangsu Hotson Plastics Co. Ltd | Jiangsu Hotson Plastics Co. Ltd | 64.28 | 20.19
Cangnan Color Make The Bag | Cangnan Color Make The Bag | 64.28 | 20.19
Zibo Qigao Plastic Cement Co. Ltd | Zibo Qigao Plastic Cement Co. Ltd | 64.28 | 20.19
PRC-Wide Entity ²⁹ |  | 91.73 | 47.64

²⁷ See Laminated Woven Sacks from the People's Republic of China: Final Determination of Sales at Less Than Fair Value and Partial Affirmative Determination of Critical Circumstances, 73 FR 35646, 35648 (June 24, 2008).

²⁸ See Sacks Section 129 Final Determinations at 39.

²⁹ The PRC-Wide Entity includes Shandong Shouguang Jianyuanchun Co., Ltd. (“SSJ”); Han Shing Chemical Co., Ltd.; Ningbo Yong Feng packaging Co., Ltd.; and Shandong Qilu Plastic Fabric Group, Ltd.

Amended Antidumping Duty Cash Deposit Rates (Percent)—Light-Walled Rectangular Pipe and Tube From the PRC
Exporter | Producer | Weighted-average dumping margin (investigation) ³⁰ | Revised AD cash deposit rate ³¹
Zhangjiagang Zhongyuan Pipe-Making Co., Ltd | Zhangjiagang Zhongyuan Pipe-Making Co., Ltd | 264.64 | 255.07
Kunshan Lets Win Steel Machinery Co., Ltd | Kunshan Lets Win Steel Machinery Co., Ltd | 249.12 | 247.90
Wuxi Baishun Steel Pipe Co., Ltd | Wuxi Baishun Steel Pipe Co., Ltd | 249.12 | 247.90
Guangdong Walsall Steel Pipe Industrial Co., Ltd | Guangdong Walsall Steel Pipe Industrial Co., Ltd | 249.12 | 247.90
Wuxi Worldunion Trading Co., Ltd | Wuxi Hongcheng Bicycle Material Co., Ltd | 249.12 | 247.90
Weifang East Steel Pipe Co., Ltd | Weifang East Steel Pipe Co., Ltd | 249.12 | 247.90
Jiangyin Jianye Metal Products Co., Ltd | Jiangyin Jianye Metal Products Co., Ltd | 249.12 | 247.90
PRC-Wide Entity ³² |  | 264.64 | 255.07

Implementation of the Revised Cash Deposit Requirements

On August 21, 2012, in accordance with sections 129(b)(4) and 129(c)(1)(B) of the URAA and after consulting with the Department and Congress, the USTR directed the Department to implement these final determinations. With respect to each of these proceedings, unless the applicable cash deposit rate has been superseded by intervening administrative reviews, the Department will instruct U. S. Customs and Border Protection to require a cash deposit for estimated antidumping and countervailing duties at the appropriate rate for each exporter/producer specified above, for entries of subject merchandise, entered or withdrawn from warehouse, for consumption, on or after August 21, 2012. This notice of implementation of these section 129 final determinations is published in accordance with section 129(c)(2)(A) of the URAA.

³⁰ See Final Determination of Sales at Less Than Fair Value and Affirmative Determination of Critical Circumstances, in Part: Light-Walled Rectangular Pipe and Tube from the People's Republic of China, 73 FR 35652, 35654 (June 24, 2008).

³¹ See LWRPT Section 129 Final Determinations at 35.

³² The PRC-Wide Entity includes Qingdao Xiangxing Steel Pipe Co., Ltd.

Dated: August 23, 2012.
Paul Piquado,
Assistant Secretary for Import Administration.

[FR Doc. 2012-21322 Filed 8-29-12; 8:45 am]

BILLING CODE 3510-DS-P